DEPARTMENT OF LABOR

Employment and Training Administration

[TA-W-73,420; TA-W-73,420A]

Alticor, Inc., Including Access Business Group International LLC and Amway Corporation, Buena Park, CA; Alticor, Inc., Including Access Business Group International LLC, and Amway Corporation, Ada, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 12, 2010, applicable to workers of Alticor, Inc., including Access Business Group International LLC and Amway Corporation, Buena Park, California. The notice will soon be published in the Federal Register.

At the request of a company official, the Department reviewed the certification for workers of the subject firm. The workers are engaged in activities related to financial and procurement services.

New findings show that the intent of the petitioner was to cover both the Buena Park, California and the Ada, Michigan locations of the subject firm. The relevant data supplied by Alticor, Inc. to the Department during its' investigation included both the Buena Park, California and the Ada, Michigan locations.

Accordingly, the Department is amending the certification to include workers of the Ada, Michigan location of Alticor, Inc., including Access Business Group International LLC and Amway Corporation.

The intent of the Department's certification is to include all workers of the subject firm who were adversely affected by a shift in financial and procurement services to Costa Rica.

The amended notice applicable to TA-W-73,420 and TA-W-73,420A are hereby issued as follows:

All workers of Alticor, Inc., including Access Business Group International LLC and Amway Corporation, Buena Park, California (TA-W-73,420) and Alticor, Inc., including Access Business Group International LLC and Amway Corporation, Ada, Michigan, (TA-W-73,420A), who became totally or partially separated from employment on or after February 1, 2009, through April 12, 2012, and all workers in the group threatened with total or partial separation from employment on date of certification through two years from the date of certification, are eligible to apply for adjustment assistance under Chapter 2 of Title II of the Trade Act of 1974, as amended.

Signed in Washington, DC, this 28th day of April 2010.
Elliott S. Kushner,
Certifying Officer, Division of Trade Adjustment Assistance.

[FR Doc. 2010-11270 Filed 5-11-10; 8:45 am]

BILLING CODE 4510-FN-P